DEPARTMENT OF COMMERCE

International Trade Administration

District Export Council Nomination Opportunity

AGENCY: International Trade Administration, Department of Commerce.

ACTION: Notice of Opportunity for Appointment to serve as a District Export Council Member.

SUMMARY: The Department of Commerce is currently seeking nominations of individuals for consideration for appointment by the Secretary of Commerce to serve as members of one of the 59 District Export Councils (DECs) nationwide. DECs are closely affiliated with the U.S. Export Assistance Centers (USEACs) of the U.S. and Foreign Commercial Service (US&FCS), and play a key role in the planning and coordination of export activities in their communities.

DATES: Nominations for individuals to a DEC must be received by the local USEAC Director by close of business on July 15, 2013.

FOR FURTHER INFORMATION CONTACT: Please contact the Director of your local USEAC for more information on DECs and the nomination process. You may identify your local USEAC by entering your zip code online at http://export.gov/usoffices/index.asp. For general program information, contact Patrick Krissek, National DEC Liaison, US&FCS, at (202) 482-4231.

SUPPLEMENTARY INFORMATION: As lead organizations serving the international business community, and working together with USEACs, the mission of the DECs is to facilitate the development of an effective local export assistance network, support the expansion of export opportunities for local U.S. companies, serve as a communication link between the business community and US&FCS, and assist in coordinating the activities of trade assistance partners to leverage available resources. Individuals appointed to a DEC become part of a select corps of trade experts dedicated to providing international trade leadership and guidance to the local business community and assistance to the Department of Commerce on export development issues.

Selection Process: Each DEC has a target membership of 30. Approximately half of the positions are open on each DEC for the four-year term from January 1, 2014, through December 31, 2017. The local USEAC Director receives nominations for membership, and after ensuring that nominees meet the member criteria, makes recommendations to the Secretary of Commerce in consultation with the local DEC Executive Committee. After completion of a vetting process, the Secretary selects nominees for appointment to local DECs. DEC members are appointed by and serve at the pleasure of the Secretary of Commerce.

Membership Criteria: Appointment is based upon an individual's international trade leadership in the local community, ability to influence the local environment for exporting, interest in export development, and willingness and ability to devote time to DEC activities. Members include exporters, export service providers and others whose profession supports U.S. export promotion efforts. DEC member appointments are made without regard to political affiliation. DEC membership is open to U.S. citizens and permanent residents of the United States. As representatives of the local exporting community, DEC Members must reside in, or conduct the majority of their work in, the territory that the DEC covers. DEC membership is not open to federally-registered lobbyists, federal government employees, or individuals representing foreign governments.

Authority: 15 U.S.C. 1501 et seq., 15 U.S.C. 4721.

Elnora Moye,
Trade Program Assistant.

[FR Doc. 2013-12961 Filed 5-30-13; 8:45 am]

BILLING CODE 3510-FP-P